DEPARTMENT OF THE INTERIOR

Bureau of Ocean Energy Management

[Docket No. BOEM-2015-0068]

Environmental Impact Statement on the Liberty Development and Production Plan in the Beaufort Sea Planning Area

AGENCY: Bureau of Ocean Energy Management, Interior.

ACTION: Notice of availability of the Final Environmental Impact Statement.

SUMMARY: The Bureau of Ocean Energy Management (BOEM) is announcing the availability of the Final Environmental Impact Statement (FEIS) for the Liberty Development and Production Plan (DPP) in the Beaufort Sea Planning Area. The FEIS analyzes the potential environmental impacts of the proposed action described in the Liberty DPP and reasonable alternatives to the proposed action.

ADDRESSES: Electronic copies of the FEIS and associated information is available on BOEM's website at: https://www.boem.gov/liberty.

FOR FURTHER INFORMATION CONTACT: Lauren Boldrick, Project Manager, Bureau of Ocean Energy Management, Alaska OCS Region, 3801 Centerpoint Drive, Suite 500, Anchorage, Alaska 99503, 907-334-5200.

SUPPLEMENTARY INFORMATION: The proposed action would recover and process oil from the Liberty oil field and transport sales-quality oil to market. To accomplish this, Hilcorp Alaska LLC would construct the Liberty Drilling and Production Island (LDPI) to recover reserves from three Federal leases (OCS-Y-1585, OCS-Y-1650, and OCS-Y-1886) in Foggy Island Bay of the Beaufort Sea. The ocean bottom footprint of the proposed LDPI is approximately 24 acres. Hilcorp would construct a new pipeline linking the LDPI to the Badami Sales Oil Pipeline (Badami pipeline). They would bury the subsea portion (approximately 5.6 miles) of the pipeline along a route running south from the LPDI to the Alaska coastline west of the Kadleroshilik River. The pipeline would transition to above-ground for approximately 1.5 miles and tie into the existing Badami pipeline. Hilcorp would produce and process oil from the LDPI, transport it through the Badami pipeline to the existing common carrier pipeline system, and from there on to the Trans-Alaska Pipeline System.

The full text of the mitigation measures which will be included in the project approval are available in the Liberty DPP FEIS. The FEIS and associated information is available on BOEM's website at: https://www.boem.gov/liberty.

Authority: This Notice of Availability is published pursuant to regulations (40 CFR part 1506) implementing the provisions of the National Environmental Policy Act (NEPA) of 1969, as amended (42 U.S.C. 4321 et seq.).

Dated: August 13, 2018.
James (Jim) Kendall,
Regional Director, Alaska OCS Region, Bureau of Ocean Energy Management.

[FR Doc. 2018-19107 Filed 8-30-18; 8:45 am]

BILLING CODE 4310-MR-P